DEPARTMENT OF THE INTERIOR

National Park Service

[WASO-NRSS-BRMD-11317; 2340-NYS]

Proposed Information Collection; Comment Request: NPS Institutional Animal Care and Use Committee (IACUC) General Submission, Annual Review, and Exhibitor Forms

AGENCY: National Park Service (NPS), Interior.

ACTION: Notice; request for comments.

SUMMARY: We (National Park Service) will ask the Office of Management and Budget (OMB) to approve the information collection (IC) described below. This collection currently consist of three forms (General Submission, Annual Renewal, Exhibitor Submission) used by the Institutional Animal Care and Use Committee (NPS IACUC/the Committee) to ensure compliance with the Animal Welfare Act (AWA), its regulations (AWAR), and the Interagency Research Animal Committee (IRAC) principles for projects involving the use of vertebrate animals in research, teaching, and/or exhibition. To comply with the Paperwork Reduction Act of 1995 and as a part of our continuing efforts to reduce paperwork and respondent burden, we invite the general public and other federal agencies to comment on this IC. The PRA (44 U.S.C. 3501, et seq.) provides that we may not conduct or sponsor and a person is not required to respond to, a collection unless it displays a currently valid OMB control number and current expiration date.

DATES: Please submit your comment on or before November 26, 2012.

ADDRESSES: Please send your comments to the IC to Phadrea Ponds, Information Collections Coordinator, National Park Service, 1201 Oakridge Drive, Fort Collins, CO 80525 (mail); or phadrea_ponds@nps.gov (email). Please reference Information Collection 1024-NEW, NPS IACUC in the subject line.

FOR FURTHER INFORMATION CONTACT: Jordan Spaak, NPS IACUC Administrator by mail at Biological Resource Management Division 1201 Oakridge Drive, Suite 200 Fort Collins, CO 80525 or Jordan_Spaak @nps.gov (email). You may also contact John Bryan at John_Bryan@nps.gov (email).

SUPPLEMENTARY INFORMATION:

I. Abstract

All research, teaching, and exhibition projects involving vertebrate animals taking place on NPS territories must be approved by the NPS IACUC prior to their commencement. Principal Investigators (PI) are required to submit the completed General Submission, Annual Renewal, or Exhibitor Submission as required for approval to the NPS IACUC Office.

II. Data

OMB Control Number: None. This collection is currently in use without an OMB Control Number.

Title: NPS Institutional Animal Care and Use Committee (IACUC) General Submission Form.

Type of Request: New.

Affected Public: General public. Anyone involved in research, teaching, and exhibition projects involving vertebrate animals in NPS units.

Respondent's Obligation: Mandatory.

Frequency of Collection: One-time, on occasion.

Estimated Annual Number of Respondents: 75.

Estimated Total Annual Burden Hours: 450 hours. We expect to receive 75 annual responses. We estimate an average of 6 hours per response.

Estimated Reporting and Recordkeeping “Non-Hour Cost” Burden: None

III. Request for Comments

We invite comments concerning this ICR on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: September 18, 2012.
Madonna L. Baucum,
Information Collection Clearance Officer, National Park Service.

[FR Doc. 2012-23674 Filed 9-25-12; 8:45 am]

BILLING CODE 4312-52-P